DEPARTMENT OF STATE

[Public Notice: 9339]

Meeting on United States-Korea Free Trade Agreement Environment Chapter Implementation and Environmental Cooperation Commission Meeting Under the United States-Korea Environmental Cooperation Agreement

ACTION: Notice of the second meetings of the Environmental Affairs Council established pursuant to the United States-Korea Free Trade Agreement and of the Environmental Cooperation Commission established under the United States-Korea Environmental Cooperation Agreement, and request for comments.

SUMMARY: The U.S. Department of State and the Office of the United States Trade Representative (USTR) are providing notice that the United States and the Republic of Korea (Korea) intend to hold the second meetings of the Environmental Cooperation Commission (ECC) and of the Environmental Affairs Council (EAC) in Seoul, Korea on November 10 and 11, 2015, respectively.

During the ECC meeting, the United States and Korea (collectively the Parties) will review the results of environmental cooperation under the 2013-2015 Work Program. The Parties also expect to approve a new 2016-2018 Work Program. During the EAC meeting, the Parties will discuss their respective implementation of and progress under the Environment Chapter (Chapter 20) of the United States-Korea Free Trade Agreement (FTA). All interested persons are invited to attend a public session on November 11, 2015 following the ECC and EAC meetings where they will have the opportunity to ask questions and discuss U.S.-Korean environmental cooperation and implementation of Chapter 20 with Commission and Council Members. For further information, please contact Tiffany Prather or Seth Patch (contact information below).

The Department of State and USTR invite interested organizations and members of the public to submit written comments or suggestions regarding implementation of Chapter 20, the Work Programs, the meeting agendas, or any issues that should be discussed at the meetings. In preparing comments or suggestions, submitters are encouraged to refer to: (1) The United States-Korea Environmental Cooperation Agreement (ECA); (2) the United States-Korea Environmental Cooperation Commission 2013-2015 Work Program; (3) the Environment Chapter of the United States-Korea FTA; and (4) the Final Environmental Review United States-Korea Free Trade Agreement. These documents are available at www.state.gov/e/oes/eqt/trade/c49687.htm.

DATES: The ECC and EAC meetings will be held on November 10 and 11, 2015, respectively, in Seoul, Korea at the Korea Press Center. Written comments and suggestions should be submitted no later than November 6, 2015 to facilitate consideration.

ADDRESSES: Written comments and suggestions should be submitted to both: (1) Tiffany Prather, Office of Environmental Quality and Transboundary Issues, U.S. Department of State, by electronic mail to PratherTA@state.gov with the subject line “U.S.-Korea EAC/ECC Meetings”; and

(2) Seth Patch, Office of Environment and Natural Resources, Office of the United States Trade Representative, by electronic mail to Seth_L_Patch@ustr.eop.gov with the subject line “U.S-Korea EAC/ECC Meetings.”

If you have access to the Internet you can view and comment on this notice by going to: http://www.regulations.gov/#!home and searching on its Public Notice number: 9339.

FOR FURTHER INFORMATION CONTACT: Tiffany Prather, telephone (202) 647-4548.

SUPPLEMENTARY INFORMATION: Article 20.6.1 of the United States-Korea FTA establishes an EAC, which oversees implementation of Chapter 20 (Environment). The United States and Korea established the ECC when they signed the ECA, negotiated in concert with the FTA, on January 23, 2012. In Articles 3 and 4 of the ECA, the Parties state that they plan to meet to develop and update, as appropriate, a Work Program for Environmental Cooperation. The Work Program will identify and outline environmental cooperation priorities, on-going efforts, and possibilities for future cooperation.

Please refer to the Department of State Web site at www.state.gov/e/oes/eqt/trade/c49687.htm and the USTR Web site at www.ustr.gov for more information.

Dated: October 28, 2015.
Deborah Klepp,
Director, Office of Environmental Quality and Transboundary Issues, Department of State.

[FR Doc. 2015-28034 Filed 11-2-15; 8:45 am]

BILLING CODE 4710-09-P